LEGAL SERVICES CORPORATION

Notice of Availability of Calendar Year 2004 Competitive Grant Funds

AGENCY: Legal Services Corporation.

ACTION: Solicitation for proposals for the provision of civil legal services.

SUMMARY: The Legal Services Corporation (LSC) is the national organization charged with administering federal funds provided for civil legal services to low-income people.

LSC hereby announces the availability of competitive grant funds and is soliciting grant proposals from interested parties who are qualified to provide effective, efficient and high quality civil legal services to eligible clients in the service area(s) of the states and territories identified below. The exact amount of congressionally appropriated funds and the date, terms and conditions of their availability for calendar year 2004 have not been determined.

DATES: See SUPPLEMENTARY INFORMATION section for grants competition dates.

ADDRESSES: Legal Services Corporation—Competitive Grants, 750 First Street NE., 10th Floor, Washington, DC 20002-4250. Starting June 2, 2003, the address will be Legal Services Corporation—Competitive Grants, 3333 K Street, NW., Washington, DC 20007.

FOR FURTHER INFORMATION CONTACT: Office of Program Performance by e-mail at competition@lsc.gov, or visit the grants competition Web site at www.ain.lsc.gov.

SUPPLEMENTARY INFORMATION: The Request for Proposals (RFP) will be available April 25, 2003. Applicants must file a Notice of Intent to Compete (NIC) to participate in the competitive grants process.

Applicants competing for service areas in Alabama, American Samoa, Arkansas, California, Colorado, District of Columbia, Florida, Georgia, Illinois, Indiana, Kentucky, Louisiana, Massachusetts, Montana, North Carolina, Oklahoma, Pennsylvania, Tennessee, Texas, Wisconsin, and Wyoming must file the NIC by May 23, 2003, 5 p.m. ET. The due date for filing grant proposals for service areas in these states is June 23, 2003, 5 p.m. ET.

Applicants competing for service areas in Mississippi, Missouri, Nevada, and New York must file the NIC by July 11, 2003, 5 p.m. ET. The due date for filing grant proposals for service areas in these states is August 8, 2003, 5 p.m. ET.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials.

The RFP, containing the NIC and grant application, guidelines, proposal content requirements, service area descriptions, and specific selection criteria, will be available from http://www.ain.lsc.gov, by April 25, 2003. LSC will not FAX the RFP to interested parties.

Below are the service areas for which LSC is requesting grant proposals. Service area descriptions will be available from Appendix A of the RFP. Interested parties are asked to visit http://www.ain.lsc.gov regularly for updates on the LSC competitive grants process.

State | Service area
Alabama | AL-1, AL-2, AL-3, MAL
American Samoa | AS-1
Arkansas | MAR
California | CA-2, CA-19, CA-26, CA-29, CA-30, CA-31, MCA
Colorado | CO-6, NCO-1, MCO
District of Columbia | DC-1
Florida | FL-13, FL-14, FL-15, FL-16, FL-17, FL-18, FL-5, MFL
Georgia | GA-1, GA-2, MGA
Illinois | IL-6, MIL
Indiana | IN-5, MIN
Kentucky | MKY
Louisiana | LA-10, LA-11, MLA
Massachusetts | MA-1, MA-2, MA-3, MA-4, MA-5, MA-10
Mississippi | MS-9, MS-10, MMS, NMS-1
Missouri | MO-8, MMO
Montana | MT-1, MMT, NMT-1
Nevada | NV-1, MNV, NNV-1
New York | NY-7, NY-20, NY-21, NY-22, NY-23, NY-24, MNY
North Carolina | NC-5, MNC, NNC-1
Oklahoma | OK-3, MOK
Pennsylvania | PA-1, PA-5, PA-8, PA-11, PA-23, PA-24, PA-25, PA-26, MPA
Tennessee | MTN
Texas | MTX
Wisconsin | WI-2, NWI-1
Wyoming | WY-4, MWY, NWY-1

Dated: April 14, 2003.
Michael A. Genz,
Director, Office of Program Performance, Legal Services Corporation.

[FR Doc. 03-9465 Filed 4-17-03; 8:45 am]

BILLING CODE 7050-01-P